DEPARTMENT OF DEFENSE

Defense Logistics Agency

Privacy Act of 1974; Systems of Records

AGENCY: Defense Logistics Agency, DoD.

ACTION: Notice to alter a system of records.

SUMMARY: The Defense Logistics Agency proposes to alter a system of records notice in its inventory of record systems subject to the Privacy Act of 1974 (5 U.S.C. 552a), as amended.

DATES: This action will be effective without further notice on November 8, 2001 unless comments are received that would result in a contrary determination.

ADDRESSES: Send comments to the Privacy Act Officer, Headquarters, Defense Logistics Agency, Attn: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on September 26, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: October 2, 2001.
L.M. Bynum,
Alternate OSD Federal Register Liaison Officer, Department of Defense.

S360.20 DLA KI

SYSTEM NAME:

Automated Payroll, Cost and Personnel System (APCAPS) Personnel Subsystem (February 22, 1993, 58 FR 10890).

CHANGES:

SYSTEM IDENTIFIER:

Delete entry and replace with ‘S360.20’.

SYSTEM NAME:

Delete entry and replace with ‘Civilian Personnel Data System.”

* * * * *

CATEGORIES OF INDIVIDUALS COVERED BY THE SYSTEM:

Delete entry and replace with ‘Defense Logistics Agency (DLA) civilian employees and employees of other Federal agencies who receive personnel support from DLA.’

CATEGORIES OF RECORDS IN THE SYSTEM:

Add to entry ‘or the current Federal hiring agency.’

* * * * *

PURPOSE(S):

Delete entry and replace with ‘The information is used to effect personnel actions, to fulfill Federal personnel reporting requirements, and to provide current and historical statistics to DLA officials for effective personnel management and personnel administration. Salary and pay information may be used by management to track and allocate personnel costs. Demographic statistical data, without personal identifiers, may be used by EEO offices to evaluate workforce composition or by organizational development offices to evaluate organizational effectiveness, employee attitudes, and similar personnel research studies.’

* * * * *

Routine uses of records maintained in the system, including categories of users and the purpose of such uses: Add three routine uses as follows: ‘To Federal agencies receiving personnel support through the Defense Logistics Agency to administer personnel issues and to manage personnel cost and planning functions.

To the Department of Labor to evaluate, process, and adjudicate workers' compensation cases and claims;

To the Equal Employment Opportunity Commission to evaluate, process, and adjudicate EEO complaints.’

* * * * *

SAFEGUARDS:

Delete entry and replace with “Records are maintained in a secure, limited access, or monitored areas. Physical entry by unauthorized persons is restricted by the use of locks, guards, passwords, and administrative procedures. Archived data is stored on magnetic tapes and discs which are kept in a locked or controlled access area. Access to personal information is limited to those individuals who require the records to perform their official assigned duties. Data handlers are periodically briefed on Privacy Act requirements and the consequences of inappropriate use of the data. Official requests for access to the data that are made by employees of other DLA activities and routine users are carefully screened to ensure that only those data elements and individual records actually required to perform official government duties are relayed.”

RETENTION AND DISPOSAL:

Delete entry and replace with “Data is deleted after the expiration of the retention period authorized for the disposable paper copy file or when no longer needed, whichever is later.”

* * * * *

RECORD SOURCE CATEGORIES:

Delete entry and replace with “Record subject, agency supervisors and administrative personnel, medical officials, previous Federal employers, U.S. Office of Personnel Management, and existing records.”

* * * * *

S360.20

SYSTEM NAME:

Civilian Personnel Data System.

SYSTEM LOCATION:

Headquarters, Defense Logistics Agency, Human Resources Office (J-1), 8725 John J. Kingman Road, Suite 2533, Fort Belvoir, VA 22060-6221;

Human Resources Offices of the DLA Primary Level Field Activities (PLFAs); and

Defense Logistics Agency Human Resources Operations Center, 3990 East Broad Street, Building 11, Section 3, Columbus, OH, 43216-5000. Official mailing addresses of the PLFAs are published as an appendix to DLA's compilation of systems of records notices.

CATEGORIES OF INDIVIDUALS COVERED BY THE SYSTEM:

Defense Logistics Agency (DLA) civilian employees and employees of other Federal agencies who receive personnel support from DLA.

CATEGORIES OF RECORDS IN THE SYSTEM:

Current personnel data on employment status and selected personal data, such as Social Security Number, name, grade, home address, sex, race and national origin identification, date of birth, age, physical handicap, Government health or life insurance, military reserve status, retired military status, education and training, status preceding employment with DLA or the current Federal hiring agency.

AUTHORITY FOR MAINTENANCE OF THE SYSTEM:

5 U.S.C. Chapters 3 and 51-59; 10 U.S.C. 133, Under Secretary of Defense for Acquisition, Technology and Logistics; E.O. 10561, Official Personnel Folders and E.O. 9397 (SSN).

PURPOSE(S):

The information is used to effect personnel actions, to fulfill Federal personnel reporting requirements, and to provide current and historical statistics to DLA officials for effective personnel management and personnel administration. Salary and pay information may be used by management to track and allocate personnel costs. Demographic statistical data, without personal identifiers, may be used by EEO offices to evaluate workforce composition or by organizational development offices to evaluate organizational effectiveness, employee attitudes, and similar personnel research studies.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To health and life insurance carriers, hospitals, medical offices, and institutions to verify benefits enrollment, to verify eligibility for payment of a claim, or to carry out the coordination or audit of benefit provisions.

To Federal agencies receiving personnel support through DLA to administer personnel issues and to manage personnel cost and planning functions.

To the Department of Labor to evaluate, process, and adjudicate workers' compensation cases and claims.

To the Equal Employment Opportunity Commission to evaluate, process, and adjudicate EEO complaints.

The DoD “Blanket Routine Uses” set forth at the beginning of DLA's compilation of systems of records notices apply to this system.

POLICIES AND PRACTICES FOR STORING, RETRIEVING, ACCESSING, RETAINING, AND DISPOSING OF RECORDS IN THE SYSTEM:

STORAGE:

Computer magnetic tapes or discs, computer paper printouts. Paper records in file folders.

RETRIEVABILITY:

Information identified to a specific civilian employee is accessed and retrieved by Social Security Number.

SAFEGUARDS:

Records are maintained in a secure, limited access, or monitored areas. Physical entry by unauthorized persons is restricted by the use of locks, guards, passwords, and administrative procedures. Archived data is stored on magnetic tapes and discs which are kept in a locked or controlled access area. Access to personal information is limited to those individuals who require the records to perform their official assigned duties. Data handlers are periodically briefed on Privacy Act requirements and the consequences of inappropriate use of the data. Official requests for access to the data that are made by employees of other DLA activities and routine users are carefully screened to ensure that only those data elements and individual records actually required to perform official government duties are relayed.

RETENTION AND DISPOSAL:

Data is deleted after the expiration of the retention period authorized for the disposable paper copy file or when no longer needed, whichever is later.

SYSTEM MANAGER(S) AND ADDRESS:

Staff Director, Human Resources Management Information, (J-14), Human Resources Office, Headquarters Defense Logistics Agency, 8725 John J. Kingman Road, Suite 2533, Fort Belvoir, VA 22060-6221.

NOTIFICATION PROCEDURE:

Individuals seeking to determine whether this system of records contains information about themselves should address written inquiries to the Privacy Act Officer, Headquarters Defense Logistics Agency, ATTN: DSS-CF, 8725 John J. Kingman Road, Suite 2533, Fort Belvoir, VA 22060-6221, or the Privacy Act Officer of the PLFA involved. Official mailing addresses are published as an appendix to the DLA compilation of systems of records notices.

Individuals must provide name (last, first, middle initial) and Social Security Number in order to determine whether or not the system contains a record about them. With a written request, individual must provide a return address.

For personal visits, the individual should be able to provide some acceptable identification, such as employing office identification card.

RECORD ACCESS PROCEDURES:

Individuals seeking access to records about themselves contained in this system of records should address written inquiries to the Privacy Act Officer, HQ DLA, Attn: DSS-CF, 8725 John J. Kingman Road, Suite 2533, Fort Belvoir, VA 22060-6221, or the Privacy Act Officer of the PLFA involved. Official mailing addresses are published as an appendix to the DLA compilation of systems of records notices.

The request is to contain the name of the individual (last, first, middle initial), Social Security Number, return mailing address, telephone number where individual can be reached during the day, and a signed statement certifying that the individual understands that knowingly or willfully seeking or obtaining access to records about another individual under false pretenses is punishable by a fine of up to 5,000 dollars. Complete records are maintained only on magnetic tapes or discs and are not available for access by personal visits. Official mailing addresses are published as an appendix to DLA's compilation of systems of records notices.

CONTESTING RECORD PROCEDURES:

The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

RECORD SOURCE CATEGORIES:

Record subject, agency supervisors and administrative personnel, medical officials, previous Federal employers, U.S. Office of Personnel Management, and existing records.

EXEMPTIONS CLAIMED FOR THE SYSTEM:

None.

[FR Doc. 01-25119 Filed 10-5-01; 8:45 am]

BILLING CODE 5001-08-P